DEPARTMENT OF THE TREASURY

Agency Information Collection Activities; Submission for OMB Review; Comment Request; Multiple Internal Revenue Service Information Collection Requests

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 27, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: United States Gift (and Generation-Skipping Transfer) Tax Return.

OMB Control Number: 1545-0020.

Type of Review: Extension of a currently approved collection.

Description: Form 709 is used by individuals to report transfers subject to the gift and generation-skipping transfer taxes and to compute these taxes. The IRS uses the information to collect and enforce these taxes, to verify that the taxes are properly computed, and to compute the tax base for the estate tax.

Form: IRS Form 709.

Affected Public: Individuals or Households.

Estimated Number of Respondents: 255,500.

Frequency of Response: Annually.

Estimated Total Number of Annual Responses: 255,500.

Estimated Time per Response: 6 hour, 12 minutes.

Estimated Total Annual Burden Hours: 1,584,100 hours.

2. Title: Quarterly Federal Excise Tax Return.

OMB Control Number: 1545-0023.

Type of Review: Extension of a currently approved collection.

Description: Excise taxes are taxes paid when purchases are made on a specific good, such as gasoline. 26 U.S.C. 4081 imposes tax for miscellaneous excise taxes, manufacturers excise taxes, automotive and related items, petroleum products and motor and aviation fuel. Form 720, Quarterly Federal Excise Tax Return, is used to report liability by IRS number and to pay the excise taxes listed on the form.

Form: IRS Form 720.

Affected Public: Individuals or Households; Businesses or other for-profit organizations; Not-for-profit institutions; and Federal, State, Local, and Tribal governments.

Estimated Number of Respondents: 180,000.

Frequency of Response: Annually.

Estimated Total Number of Annual Responses: 180,000.

Estimated Time per Response: 12 hours, 4 minutes.

Estimated Total Annual Burden Hours: 2,173,641 hours.

3. Title: Application for Approval of Prototype Simplified Employee Pension (SEP) or Savings Incentive Match Plan for Employees of Small Employers (SIMPLE IRA Plan).

OMB Control Number: 1545-0199.

Type of Review: Extension of a currently approved collection.

Description: This form is used by banks, credit unions, insurance companies, and trade or professional associations to apply for approval of a simplified employee pension plan or a Savings Incentive Match Plan to be used by more than one employer. The data collected is used to determine if the prototype plan submitted is an approved plan.

Form: IRS Form 5306-A.

Affected Public: Businesses or other for-profit organizations.

Estimated Number of Respondents: 6.

Frequency of Response: On Occasion.

Estimated Total Number of Annual Responses: 6.

Estimated Time per Response: 19 hours, 22 minutes.

Estimated Total Annual Burden Hours: 117 hours.

4. Title: Return of Excise Taxes Related to Employee Benefit Plans.

OMB Control Number: 1545-0575.

Type of Review: Extension of a currently approved collection.

Description: Internal Revenue Code sections 4971, 4972, 4973(a)(3), 4975, 4976, 4977, 4978, 4978A, 4978B, 4979, 4979A and 4980 impose various excise taxes in connection with employee benefit plans. Form 5330 is used to compute and collect these taxes.

Form: IRS Form 5330.

Affected Public: Businesses or other for-profit organizations.

Estimated Number of Respondents: 8,403.

Frequency of Response: Annually.

Estimated Total Number of Annual Responses: 8,403.

Estimated Time per Response: 64.28 hours.

Estimated Total Annual Burden Hours: 540,145 hours.

5. Title: General Business Credit.

OMB Control Number: 1545-0895.

Type of Review: Extension of a currently approved collection.

Description: Internal Revenue Code section 38 permits taxpayers to reduce their income tax liability by the amount of their general business credit, which is an aggregation of their investment credit, work opportunity credit, welfare-to-work credit, alcohol fuel credit, research credit, low-income housing credit, disabled access credit, enhanced oil recovery credit, etc. Form 3800 is used to figure the correct credit.

Form: IRS Form 3800.

Affected Public: Businesses or other for-profit organizations; Individuals or Households.

Estimated Number of Respondents: 250,000.

Frequency of Response: Annually.

Estimated Total Number of Annual Responses: 250,000.

Estimated Time per Response: 33.38 hours.

Estimated Total Annual Burden Hours: 8,345,500 hours.

6. Title: Enhanced Oil Recovery Project.

OMB Control Number: 1545-1292.

Type of Review: Revision of a currently approved collection.

Description: For purpose of section 43 of the Code, this document provides final regulations relating to the enhanced oil recovery credit for certain costs that are paid or incurred in connection with a qualified enhanced oil recovery project. Changes to the applicable law were made by the Omnibus Budget Reconciliation Act of 1990. These final regulations provide the public with guidance in determining the costs that are subject to the credit, the circumstances under which the credit is available, and the procedures whereby a project is certified as a qualified enhanced oil recovery project.

Regulation Project Number: TD 8448.

Affected Public: Businesses or other for-profit organizations; individuals; Not-for-profit institutions; and Federal, State, Local, or Tribal governments.

Estimated Number of Respondents: 40.

Frequency of Response: Annually.

Estimated Total Number of Annual Responses: 40.

Estimated Time per Response: 73 hours.

Estimated Total Annual Burden Hours: 1,460 hours.

7. Title: Health Plan Administrator (HPA) Return of Funds.

OMB Control Number: 1545-1891.

Type of Review: Extension of a currently approved collection.

Description: Form 13560 is completed by Health Plan Administrators (HPAs) and accompanies a return of funds in order to ensure proper handling. This form serves as supporting documentation for any funds returned by an HPA and clarifies where the payment should be applied and why it is being sent.

Form Number: IRS Form 13560.

Affected Public: Businesses or other for-profit organizations.

Estimated Number of Respondents: 200.

Frequency of Response: Annually.

Estimated Total Number of Annual Responses: 200.

Estimated Time per Response: 15 minutes.

Estimated Total Annual Burden Hours: 50 hours.

8. Title: Employer's Annual Employment Tax Return.

OMB Control Number: 1545-2007.

Type of Review: Extension of a currently approved collection.

Description: The information on Form 944 will be collected to ensure the smallest nonagricultural and non-household employers are paying the correct amount of social security tax, Medicare tax, and withheld federal income tax. Information on line 13 will be used to determine if employers made any required deposits of these taxes. Form 944(SP) is the Spanish version of the Form 944. 944-X and Form 944-X(SP) is used to correct errors made on Form 944.

Form Number: IRS Form 944, IRS Form 944(SP), IRS Form 944-X and IRS Form 944-X(SP).

Affected Public: Businesses or other for-profit organizations; Individuals or households; Not-for-profit institutions; and State, Local, or Tribal governments.

Estimated Number of Respondents: 137,000.

Frequency of Response: Annually.

Estimated Total Number of Annual Responses: 137,000.

Estimated Time per Response: 15 hours, 33 minutes.

Estimated Total Annual Burden Hours: 2,168,681 hours.

Authority: 44 U.S.C. 3501 et seq.

Dated: December 18, 2020.
Molly Stasko,
Treasury PRA Clearance Officer.

[FR Doc. 2020-28537 Filed 12-23-20; 8:45 am]

BILLING CODE 4830-01-P